DEPARTMENT OF TRANSPORTATION

Surface Transportation Board

[Docket No. AB 55 (Sub-No. 746X)]

CSX Transportation, Inc.—Abandonment Exemption—in Grant County, W. Va.

On November 17, 2015, CSX Transportation, Inc. (CSXT), filed with the Surface Transportation Board (Board) a petition under 49 U.S.C. 10502 for exemption from the provisions of 49 U.S.C. 10903 to abandon an approximately 0.66-mile rail line between milepost BUA 15.72 and milepost BUA 16.38, the end of the line, on the Mt. Storm Railroad Track, in Grant County, W.Va. (the Line). The Line includes the station of OPSL 56150 (FSAC 76373), which will remain open, and traverses United States Postal Service Zip Code 26739.

According to CSXT, the Western Maryland Railway Company, a predecessor to CSXT, leased approximately 16.38 miles of track and land (between mileposts BUA 0.0 and 16.38), from the predecessor of the Virginia Electric and Power Company (VEPCO), the only shipper on the Line, in order to serve VEPCO's Mt. Storm Power Station. CSXT states that, even though it does not own the Line, it is the only common carrier operating over the Line, and it is seeking to abandon the Line in order to terminate its common carrier obligation.

Further, CSXT states that VEPCO operates over the industry track east of milepost BUA 16.38. In addition, CSXT and VEPCO have agreed to amend their lease agreement, excluding the final 0.66 miles of the Line from the lease in order for VEPCO to construct and operate a new coal yard and rapid coal dumper. CSXT states that, upon a grant of abandonment authority, CSXT will reclassify the Line as yard track for VEPCO's use, and the land and track will be returned to VEPCO. Finally, CSXT states that it will not salvage the Line.¹

¹ CSXT states it will continue to provide service to VEPCO beginning at milepost BUA 15.72.

According to CSXT, the Line does not contain federally granted rights-of-way. Any documentation in CSXT's possession will be made available promptly to those requesting it.

The interest of railroad employees will be protected by the conditions set forth in Oregon Short Line Railroad—Abandonment Portion Goshen Branch Between Firth & Ammon, In Bingham & Bonneville Counties, Idaho, 360 I.C.C. 91 (1979).

By issuing this notice, the Board is instituting an exemption proceeding pursuant to 49 U.S.C. 10502(b). A final decision will be issued by March 4, 2016.

Any offer of financial assistance (OFA) under 49 CFR 1152.27(b)(2) will be due no later than 10 days after service of a decision granting the petition for exemption. Each OFA must be accompanied by a $1,600 filing fee. See 49 CFR 1002.2(f)(25).

All interested persons should be aware that, following abandonment, the Line may be suitable for other public use, including interim trail use. Any request for a public use condition under 49 CFR 1152.28 or for trail use/rail banking under 49 CFR 1152.29 will be due no later than December 24, 2015. Each trail request must be accompanied by a $300 filing fee. See 49 CFR 1002.2(f)(27).

All filings in response to this notice must refer to Docket No. AB 55 (Sub-No. 746X) and must be sent to: (1) Surface Transportation Board, 395 E Street SW., Washington, DC 20423-0001; and (2) Louis E. Gitomer, 600 Baltimore Ave., Suite 301, Towson, MD 21204. Replies to the petition are due on or before December 24, 2015.

Persons seeking further information concerning abandonment procedures may contact the Board's Office of Public Assistance, Governmental Affairs and Compliance at (202) 245-0238 or refer to the full abandonment regulations at 49 CFR part 1152. Questions concerning environmental issues may be directed to the Board's Office of Environmental Analysis (OEA) at (202) 245-0305. Assistance for the hearing impaired is available through the Federal Information Relay Service at 1-800-877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available on our Web site at WWW.STB.DOT.GOV.

Decided: December 1, 2015.
By the Board, Rachel D. Campbell, Director, Office of Proceedings.
Kenyatta Clay,
Clearance Clerk.

[FR Doc. 2015-30769 Filed 12-4-15; 8:45 am]

BILLING CODE 4915-01-P